ENVIRONMENTAL PROTECTION AGENCY

40 CFR Part 52

[EPA-R08-OAR-2016-0620; FRL-9954-67-Region 8]

Approval and Promulgation of Air Quality Implementation Plans; State of Utah; Revisions to Nonattainment Permitting Regulations

AGENCY: Environmental Protection Agency (EPA).

ACTION: Proposed rule.

SUMMARY: The Environmental Protection Agency (EPA) is proposing to conditionally approve State Implementation Plan (SIP) revisions submitted by the state of Utah on August 20, 2013, with supporting administrative documentation submitted on September 12, 2013. These submittals revise the Utah Administrative Code (UAC) that pertain to the issuance of Utah air quality permits for major sources in nonattainment areas. The EPA proposes a conditional approval because while the submitted revisions to Utah's nonattainment permitting rules do not fully address the deficiencies in the state's program, Utah has committed to address additional remaining deficiencies in the state's nonattainment permitting program no later than a year from the EPA finalizing this conditional approval. If finalized, and upon the EPA finding a timely meeting of this commitment in full, the proposed conditional approval of the SIP revisions would convert to a final approval of Utah's plan. This action is being taken under section 110 of the Clean Air Act (CAA) (Act).

DATES: Written comments must be received on or before November 30, 2016.

ADDRESSES: Submit your comments, identified by EPA-R08-OAR-2016-0620 at http://www.regulations.gov. Follow the online instructions for submitting comments. Once submitted, comments cannot be edited or removed from regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, cloud, or other file sharing system). For additional submission methods, the full EPA public comment policy, information about CBI or multimedia submissions, and general guidance on making effective comments, please visit http://www2.epa.gov/dockets/commenting-epa-dockets.

Docket: All documents in the docket are listed in the http://www.regulations.gov index. Although listed in the index, some information is not publicly available, e.g., CBI or other information whose disclosure is restricted by statute. Certain other material, such as copyrighted material, will be publicly available only in hard copy. Publicly-available docket materials are available at http://www.regulations.gov or in hard copy at the EPA Region 8, Office of Partnerships and Regulatory Assistance, Air Program, 1595 Wynkoop Street, Denver, Colorado 80202-1129. The EPA requests that if at all possible, you contact the individual listed in the FOR FURTHER INFORMATION CONTACT section to view the hard copy of the docket. You may view the hard copy of the docket Monday through Friday, 8:00 a.m. to 4:00 p.m., excluding federal holidays.

FOR FURTHER INFORMATION CONTACT: Kevin Leone, Air Program, EPA, Region 8, Mailcode 8P-AR, 1595 Wynkoop Street, Denver, Colorado 80202-1129, (303) 312-6227, leone.kevin@epa.gov.

SUPPLEMENTARY INFORMATION:

I. General Information

What should I consider as I prepare my comments for the EPA?

a. Submitting CBI. Do not submit CBI to EPA through http://www.regulations.gov or email. Clearly mark the part or all of the information that you claim to be CBI. For CBI information in a disk or CD ROM that you mail to the EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

b. Tips for Preparing Your Comments. When submitting comments, remember to:

i. Identify the rulemaking by docket number and other identifying information (subject heading, Federal Register date and page number).

ii. Follow directions—The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity or personal threats.

viii. Make sure to submit your comments by the comment period deadline identified.

II. Background

On May 10, 2001, the EPA sent Utah a letter outlining concerns that Utah's nonattainment permitting rules, which are codified in UAC R307-403 (Permits: New and Modified Sources in Nonattainment Areas and Maintenance Areas), have not been consistent with federal requirements (see docket R08-OAR-2016-0620). On August 20, 2013, with supporting administrative documentation submitted on September 12, 2013, Utah sent the EPA revisions to their nonattainment permitting regulations, specifically to address EPA identified deficiencies in their nonattainment permitting regulations that affected the EPA's ability to approve Utah's PM10 maintenance plan and that may affect the EPA's ability to approve of Utah's PM2.5 SIP. These revisions addressed R307-403-1 (Purpose and Definitions), R307-403-2 (Applicability), R307-403-11 (Actual Plant-wide Applicability Limits (PALs)), and R307-420 (Ozone Offset Requirements in Davis and Salt Lake Counties). In addition, Utah moved R307-401-19 (Analysis of Alternatives) to R307-403-10 and moved R307-401-20 (Relaxation of Limits) to R307-403-2. On June 2, 2016, the EPA entered into a consent decree with the Center for Biological Diversity, Center for Environmental Health, and Neighbors for Clean Air regarding a failure to act, pursuant to CAA sections 110(k)(2)-(4), on certain complete SIP submissions from states intended to address specific requirements related to the 2006 p.m.2.5 NAAQS for certain nonattainment areas, including the submittal from the Governor of Utah dated August 20, 2013.

The SIP revisions submitted by the Utah Department of Air Quality (UDAQ) on August 20, 2013, establish specific nonattainment new source review permitting requirements. In this revision, the UDAQ has incorporated federal regulatory language—establishing permitting requirements for new and modified major stationary sources in a nonattainment area—from portions of 40 CFR 51.165 and reformatted it into state-specific requirements for sources in Utah under R307-403-1 (Purpose and Definitions) and R307-403-2 (Applicability), including provisions relevant to nonattainment NSR programs for PM2.5 nonattainment areas. Additionally, UDAQ incorporated by reference the provisions of 40 CFR 51.165(f)(1)-(f)(14) into 307-403-11 (Actual PALs), and revised R307-420 to state that the definitions and applicability provisions in R307-403-1 apply to this section.

CAA section 110(a)(2)(C) requires each state plan to include “a program to provide for . . . regulation of the modification and construction of any stationary source within the areas covered by the plan as necessary to assure that [NAAQS] are achieved, including a permit program as required in parts C and D of this subchapter,” and CAA section 172(c)(5) provides that the plan “shall require permits for the construction and operation of new or modified major stationary sources anywhere in the nonattainment area, in accordance with section [173].” CAA section 173 lays out the requirements for obtaining a permit that must be included in a state's SIP-approved permit program. CAA section 110(a)(2)(A) requires that SIPs contain enforceable emissions limitations and other control measures. Under section CAA section 110(a)(2), the enforceability requirement in section 110(a)(2)(A) applies to all plans submitted by a state. CAA section 110(i) (with certain limited exceptions) prohibits states from modifying SIP requirements for stationary sources except through the SIP revision process. CAA section 172(c)(7) requires that nonattainment plans, including nonattainment New Source Review (NSR) programs required by section 172(c)(5), meet the applicable provisions of section 110(a)(2), including the requirement in section 110(a)(2)(A) for enforceable emission limitations and other control measures. CAA section 110(l) provides that the EPA cannot approve a SIP revision that interferes with any applicable requirement of the Act.

Section 51.165 in title 40 of the CFR (Permit Requirements) sets out the minimum plan requirements states are to meet within each SIP nonattainment NSR permitting program. Generally, 40 CFR 51.165 consists of a set of definitions, minimum plan requirements regarding procedures for determining applicability of nonattainment NSR and use of offsets, and minimum plan requirements regarding other source obligations, such as recordkeeping.

Specifically, subparagraphs 51.165(a)(1)(i) through (xlvi) enumerate a set of definitions which states must either use or replace with definitions that a state demonstrates are more stringent or at least as stringent in all respects. Subparagraph 51.165(a)(2) sets minimum plan requirements for procedures to determine the applicability of the nonattainment NSR program to new and modified sources. Subparagraph 51.165(a)(3), (a)(9) and (a)(11) set minimum plan requirements for the use of offsets by sources subject to nonattainment NSR requirements. Subparagraphs (a)(8) and (a)(10) regard precursors, and subparagraphs (a)(6) and (a)(7) regard recordkeeping obligations. Subparagraph 51.165(a)(4) allows nonattainment NSR programs to treat fugitive emissions in certain ways. Subparagraph 51.165(a)(5) regards enforceable procedures for after approval to construct has been granted. Subparagraph 51.165(b) sets minimum plan requirements for new major stationary sources and major modifications in attainment and unclassifiable areas that would cause or contribute to violations of the national ambient air quality standards (NAAQS.) Finally, subparagraph 51.165(f) sets minimum plan requirements for the use of PALs. Please refer to docket EPA-R08-OAR-2016-0620 to view a cross-walk table which outlines how Utah's nonattainment permitting rules correlate with the requirements of 40 CFR 51.165.

Clean Air Act section 189(e) requires that state SIPs apply the same control requirements that apply to major stationary sources of PM10 to major stationary sources of PM10 precursors, “except where the Administrator determines that such sources do not contribute significantly to PM10 levels which exceed the standard in the area.” On January 4, 2013, the U.S. Court of Appeals for the District of Columbia Circuit, in Natural Resources Defense Council v. EPA, 706 F.3d 428 (D.C. Cir. 2013), issued a decision that remanded the EPA's 2008 PM2.5 NSR Implementation Rule (73 FR 28321). The court found that the EPA erred in implementing the PM2.5 NAAQS in these rules solely pursuant to the general implementation provisions of subpart 1 of part D of title I of the CAA, rather than pursuant to the additional implementation provisions specific to particulate matter nonattainment areas in subpart 4. In particular, subpart 4 includes section 189(e) of the CAA, which requires the control of major stationary sources of PM10 precursors (and hence under the court decision, PM2.5 precursors) “except where the Administrator determines that such sources do not contribute significantly to PM10 levels which exceed the standard in the area.” Accordingly, nonattainment NSR programs that are submitted for PM2.5 nonattainment areas must regulate all PM2.5 precursors, i.e., SO2, NOX, VOC, and ammonia, unless the Administrator determines that such sources of a particular precursor do not contribute significantly to nonattainment in the nonattainment area. The EPA recently finalized a new provision at 40 CFR 51.165(a)(13) that codifies this requirement, as it applies to PM2.5, in the federal regulations.

As a result, it became clear that Utah needed to submit further revisions to address remaining deficiencies in the nonattainment permitting program for the EPA to approve the August 20, 2013, submittal. Included as part of those deficiencies was that Utah has not submitted an analysis demonstrating that sources of ammonia, as a PM2.5 precursor, do not contribute significantly to PM2.5 levels that exceed the NAAQS in nonattainment areas in the State. On September 30, 2016, Utah submitted to EPA a commitment letter in which Utah commits to address additional remaining deficiencies in the State's nonattainment permitting program in R307-403 by December 8, 2017, that were not addressed in the August 20, 2013, submittal, including revisions to R307-403-2, R307-403-3, and R307-403-4. In Utah's commitment letter, Utah specifies that:

1. UDAQ commits to submit a SIP revision that either regulates major stationary sources of the pursuant to Utah's nonattainment new source review (NNSR) permitting program, consistent with all applicable federal regulatory requirements or demonstrates that sources of ammonia, as a PM2.5 precursor, do not contribute significantly to PM2.5 levels that exceed the NAAQS in nonattainment areas in the state, consistent with new provisions at 40 CFR 51.1006(a)(3);

2. UDAQ commits to revise R307-403-2 consistent with the new definitions in 40 CFR 51.165 that EPA recently finalized in the PM2.5 SIP Requirements Rules;

3. UDAQ commits to revise R307-403-3, including R307-403-3(3), to remove the reference to NNSR determinations being made “at the time of the source's proposed start-up date”;

4. UDAQ commits to revise R307-403-3, including R307-403-3(2) and R307-403-3(3), to specify that NNSR permit requirements are applicable to all new major stationary sources or major modifications located in a nonattainment area that are major for the pollutant for which the area is designated nonattainment;

5. UDAQ commits to revise R307-403-3, in addition to the previously adopted definition of lowest achievable emission rate (LAER) in R307-403-1, to explicitly state that LAER applies to all major new sources and major modifications for the relevant pollutants in nonattainment areas;

6. UDAQ commits to revise R307-403-4 to incorporate the requirements from 40 CFR 51.165 to establish that all general offset permitting requirements apply for all offsets regardless of the pollutant at issue, and to revise the provision to impose immediate and direct general offset permitting requirements on all new major stationary sources or major modifications located in a nonattainment area that are major for the pollutant for which the area is designated nonattainment;

7. UDAQ commits to work with the Utah Air Quality Board to revise R307-403-4 to reference the criteria discussed in section IV.D. of 40 CFR 51, Appendix S; and

8. UDAQ will update R307-403 to include a new section that imposes requirements that address emission offsets for PM2.5 nonattainment areas (as required in 40 CFR 51.165(a)(11)) on NNSR sources in Utah. UDAQ will revise R307-403-3, including R307-403-3(3)(c), to cross reference this new section, as well as the requirements in R307-403-4, R307-403-5, and R307-403-6; and UDAQ commits to work with the Utah Air Quality Board to revise this section to include the requirements of CAA Section 173(c)(1) and 40 CFR 51.165 (specifically 40 CFR 51.165(a)(3)) concerning the requirement that creditable reductions be calculated based on actual emissions for offset purposes.

Under section 110(k)(4) of the Act, the EPA may approve a SIP revision based on a commitment by the state to adopt specific enforceable measures by a date certain, but not later than one year after the date of approval of the plan revision. Under a conditional approval, the state must adopt and submit the specific revisions it has committed to within one year of the EPA's finalization. If the EPA fully approves the submittal of the revisions specified in the commitment letter, the conditional nature of the approval would be removed and the submittal would become fully approved. If the state does not submit these revisions within one year, or if the EPA finds the state's revisions to be incomplete, or EPA disapproves the state's revisions, a conditional approval will convert to a disapproval. If any of these occur and the EPA's conditional approval converts to a disapproval, that will constitute a disapproval of a required plan element under part D of title I of the Act, which starts an 18-month clock for sanctions, see section 179(a)(2), and the two-year clock for a federal implementation plan (FIP), see section 110(c)(1)(B).

III. Proposed Action

The EPA is proposing to conditionally approve Utah's revisions submitted on August 20, 2013, which have not been withdrawn by Utah. These revisions addressed R307-403-1 (Purpose and Definitions), R307-403-2 (Applicability), R307-403-11 (Actual PALs), and R307-420 (Ozone Offset Requirements in Davis and Salt Lake Counties). In addition, Utah moved R307-401-19 (Analysis of Alternatives) to R307-403-10 and moved R307-401-20 (Relaxation of Limits) to R307-403-2. The EPA proposes that these changes, when combined with the changes Utah has committed to submitting to the EPA by December 8, 2017, in Utah's September 30, 2016 commitment letter, create enforceable obligations for sources and are consistent with the CAA and EPA regulations, including the requirements of CAA section 110(a)(2)(A), 110(a)(2)(C), 110(i), 110(l), 172(c)(5), 172(c)(7), 173.

The crosswalk table in the docket details how the submittal corresponds to specific requirements in 40 CFR 51.165; however, as stated earlier, we are not proposing to determine that Utah's PM2.5 nonattainment permitting rules meet all requirements of 40 CFR 51.165 at this time, but rather are conditionally approving these revisions based on Utah's September 30, 2016 commitment letter. If we finalize our proposed conditional approval, Utah must adopt and submit to the EPA the specific revisions it has committed to by December 8, 2017. If the EPA fully approves the submittal of the revisions specified in the commitment letter, the conditional nature of this proposed approval would be removed and the August 20, 2013 submittal would, at that time, become fully approved. If Utah does not submit these revisions by December 8, 2017, or if we find Utah's revisions to be incomplete, or we disapprove Utah's revisions, the final conditional approval will convert to a disapproval. If any of these occur and our final conditional approval converts to a disapproval, that will constitute a disapproval of a required plan element under part D of title I of the Act, which starts an 18-month clock for sanctions, see CAA section 179(a)(2), and the two-year clock for a FIP, see CAA section 110(c)(1)(B).

Specifically, we are proposing to conditionally approve:

R307-401-19 (Analysis of Alternatives)

Section R307-401-19 being moved removed from R307-401-19 and being added to R307-403-10. Because this section applies only to major sources or major modifications that are located in a nonattainment area or impact a nonattainment area, this section is more appropriately located in R307-403.

R307-401-20 (Relaxation of Limits)

Section R307-401-20 being moved removed from R307-401-19 and being added to R307-403-2. Because this section applies only to major sources or major modifications that are located in a nonattainment area or impact a nonattainment area, this section is more appropriately located in R307-403.

R307-403-1 (Purpose and Definitions)

Language being added in R307-403-1(1)-(4) to parallel federal nonattainment permitting regulations in 40 CFR 51.165; however, Utah committed to addressing further deficiencies regarding ammonia as a precursor to PM2.5 in this section, as specified in Utah's September 30, 2016 commitment letter.

In particular, R307-403-1(4)(b) states that “ammonia is not a precursor to PM2.5 in the Logan, Salt Lake City, and Provo PM2.5 nonattainment areas as defined in the July 1, 2010 version of 40 CFR 81.345,” however, UDAQ has not submitted an analysis demonstrating that sources of ammonia, as a PM2.5 precursor, do not contribute significantly to PM2.5 levels that exceed the NAAQS in nonattainment areas in the State. UDAQ committed to submit a SIP revision that either regulates major stationary sources of ammonia pursuant to Utah's NNSR permitting program, consistent with all applicable federal regulatory requirements or demonstrates that sources of ammonia, as a PM2.5 precursor, do not contribute significantly to PM2.5 levels that exceed the NAAQS in nonattainment areas in the State, consistent with new provisions at 40 CFR 51.1006(a)(3).

R307-403-2 (Applicability)

The title of this section being changed from “Emission Limitations” to “applicability” and language being added to R307-403-2(1)-(12) to parallel federal nonattainment permitting regulations in 40 CFR 51.165; however, Utah committed to addressing further deficiencies in this section in its September 30, 2016 commitment letter. Utah committed to revise R307-403-2 consistent with the new definitions in 40 CFR 51.165 that the EPA recently finalized in the PM2.5 SIP Requirements Rules.

On September 23, 2016, Utah submitted a letter to the EPA requesting to withdraw R307-403-2(12) (see docket EPA-R08-OAR-2016-0620.) As a result, we will not be acting on that subparagraph.

R307-403-11 (Actuals PALs)

R307-403-11 being added to implement a portion of the EPA's NSR Reform provisions that were adopted in the federal regulations in 2002 and have not yet been incorporated into the Utah Air Quality Rules. R307-403-11 incorporates by reference the provisions of 40 CFR 51.165(f)(1) through (14).

R307-403-20 (Permits: Ozone Offset Requirements in Davis and Salt Lake Counties)

This rule being revised to include the definitions and applicability provisions of R307-403-1. This rule change will ensure that the definitions and applicability provisions in R307-420 are consistent with related permitting rules in R307-403.

UDAQ additionally committed to submit a revised SIP by December 8, 2017 to: (1) Revise R307-403-3, including R307-403-3(3), to remove the reference to NNSR determinations being made “at the time of the source's proposed start-up date; (2) revise R307-403-3, including R307-403-3(2) and R307-403-3(3), to specify that NNSR permit requirements are applicable to all new major stationary sources or major modifications located in a nonattainment area that are major for the pollutant for which the area is designated nonattainment; (3) revise R307-403-3, in addition to the previously adopted definition of LAER in R307-403-1, to explicitly state that LAER applies to all major new sources and major modifications for the relevant pollutants in nonattainment areas; (4) revise R307-403-4 to incorporate the requirements from 40 CFR 51.165 to establish that all general offset permitting requirements apply for all offsets regardless of the pollutant at issue, and to revise the provision to impose immediate and direct general offset permitting requirements on all new major stationary sources or major modifications located in a nonattainment area that are major for the pollutant for which the area is designated nonattainment; (5) revise R307-403-4 to reference the criteria discussed in section IV.D. of 40 CFR 51, Appendix S; (6) update R307-403, to include a new section that imposes requirements that address emission offsets for PM2.5 nonattainment areas (as required in 40 CFR 51.165(a)(11)) on NNSR sources, and revise R307-403-3, including R307-403-3(3)(c), to cross reference this new section, as well as the requirements in R307-403-4, R307-403-5, and R307-403-6, and revise this section to include the requirements of CAA Section 173(c)(1) and 40 CFR 51.165 (specifically 40 CFR 51.165(a)(3)) concerning the requirement that creditable reductions be calculated based on actual emissions for offset purposes; and (7) address further deficiencies regarding ammonia as a precursor to PM2.5.

IV. Consideration of Section 110(l) of the CAA

Under section 110(l) of the CAA, the EPA cannot approve a SIP revision if the revision would interfere with any applicable requirements concerning attainment and reasonable futher progress (RFP) toward attainment of the NAAQS, or any other applicable requirement of the Act. In addition, section 110(l) requires that each revision to an implementation plan submitted by a state shall be adopted by the state after reasonable notice and public hearing.

The Utah SIP revisions that the EPA is proposing to approve do not interfere with any applicable requirements of the Act. The revisions to R307-401 and R307-403 submitted by the Utah on August 20, 2013, are intended to strengthen the SIP. Therefore, CAA section 110(l) requirements are satisfied.

V. Incorporation by Reference

In this rule, the EPA is proposing to include in a final EPA rule regulatory text that includes incorporation by reference. In accordance with requirements of 1 CFR 51.5, the EPA is proposing to incorporate by reference the UDAQ rules promulgated in the DAR, R307-400 Series as discussed in section III of this preamble. The EPA has made, and will continue to make, these materials generally available through www.regulations.gov and/or at the EPA Region 8 Office (please contact the person identified in the FOR FURTHER INFORMATION CONTACT section of this preamble for more information).

VI. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this action merely proposes to approve state law as meeting federal requirements and does not impose additional requirements beyond those imposed by state law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Carbon monoxide, Intergovernmental relations, Incorporation by reference, Lead, Nitrogen dioxide, Ozone, Particulate matter, Reporting and recordkeeping requirements, Sulfur oxides, Volatile organization compounds.

Authority: 42 U.S.C. 7401 et seq.

Dated: October 20, 2016.
Shaun L. McGrath,
Regional Administrator, Region 8.

[FR Doc. 2016-26233 Filed 10-28-16; 8:45 am]

BILLING CODE 6560-50-P